DEPARTMENT OF ENERGY

Federal Energy Regulatory Commission

[Project No. 13102-003—Alabama; Demopolis Lock and Dam Hydroelectric Project]

Birch Power Company; Notice of Proposed Restricted Service List for a Programmatic Agreement

Rule 2010 of the Federal Energy Regulatory Commission's (Commission) Rules of Practice and Procedure, 18 CFR section 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Alabama Historical Commission (Alabama SHPO) and the Advisory Council on Historic Preservation (Advisory Council) pursuant to the Advisory Council's regulations, 36 CFR part 800, implementing section 106 of the National Historic Preservation Act, as amended, (16 U.S.C. 470f), to prepare a Programmatic Agreement for managing properties included in, or eligible for inclusion in, the National Register of Historic Places that could be affected by issuance of a license for the Demopolis Lock and Dam Hydroelectric Project.

The Programmatic Agreement, when executed by the Commission and the Alabama SHPO, would satisfy the Commission's section 106 responsibilities for all individual undertakings carried out in accordance with the license until the license expires or is terminated (36 CFR section 800.13[e]). The Commission's responsibilities pursuant to section 106 for the project would be fulfilled through the Programmatic Agreement, which the Commission staff proposes to draft in consultation with certain parties listed below.

Birch Power Company, as applicant for the proposed Demopolis Hydroelectric Project, the U.S. Army Corps of Engineers, the Poarch Band of Creek Indians, Alabama-Coushatta Tribe of Texas, Alabama-Quassarte Tribal Town, United Keetoowah Band of Cherokee Indians, Choctaw Nation of Oklahoma, Jena Band of Choctaw Indians, Muscogee (Creek) Nation, and Kialegee Tribal Town of the Muscogee (Creek) Nation have expressed an interest in this proceeding and are invited to participate in consultations to develop the Programmatic Agreement and to sign as a concurring party to the Programmatic Agreement. For purposes of commenting on the Programmatic Agreement, we propose to restrict the service list for Project No. 13102-003 as follows:

John Eddins, Advisory Council on Historic Preservation, The Old Post Office Building, 1100 Pennsylvania Avenue, NW., Suite 803, Washington, DC 20004

Greg Rhinehart, Alabama Historical Commission, 468 South Perry Street, Montgomery, AL 36130-0900

Joseph Giliberti, U.S. Army Corps of Engineers, Mobile District, 109 Saint Joseph Street, MS-PDEI, Mobile, AL 36628-0001

Nicholas E. Josten, Agent, Birch Power Company, 2742 Saint Charles Avenue, Idaho Falls, ID 83404

Robert Thrower, THPO, Poarch Band of Creek Indians, 5811 Jack Springs Road, Atmore, AL 36502

Bryant Celestine, THPO, Alabama-Coushatta Tribe of Texas, 571 State Park Road 56, Livingston, TX 77351

Augustine Asbury, Alabama-Quassarte Tribal Town, P.O. Box 187, Wetumka, OK 74883

Lisa Baker, THPO, United Keetoowah Band of Cherokee Indians, 20525 S. Jules Valdez Road, Tahlequah, OK 74464

Dr. Ian Thompson, THPO, Choctaw Nation of Oklahoma, P.O. Box 1210, Durant, OK 74701

Johnnie Jacobs, Choctaw Nation of Oklahoma, P.O. Box 1210, Durant, OK 74701

Dana Masters, THPO, Jena Band of Choctaw Indians, P.O. Box 14, Jena, LA 71342

Emman Spain, THPO, Muscogee (Creek) Nation, P.O. Box 580, Okmulgee, OK 74447

Chief George Tiger or Representative, Kialegee Tribal Town of the Muscogee (Creek) Nation, P.O. Box 146, Wetumpka, OK 74883

Any person on the official service list for the above-captioned proceedings may request inclusion on the restricted service list, or may request that a restricted service list not be established, by filing a motion to that effect within 15 days of this notice date. An original plus five copies of any such motion must be filed with the Secretary of the Commission (888 First Street NE., Washington, DC 20426) and must be served on each person whose name appears on the official service list. If no such motions are filed, the restricted service list will be effective at the end of the 15 day period. Otherwise, a further notice will be issued ruling on the motion.

Dated: August 12, 2013.
Kimberly D. Bose,
Secretary.

[FR Doc. 2013-20033 Filed 8-16-13; 8:45 am]

BILLING CODE 6717-01-P